SCIENCE AND TECHNOLOGY POLICY OFFICE

Federal Flood Standard Support Website and Tool Beta Version; Extension of Comment Period

AGENCY: White House Office of Science and Technology Policy (OSTP)

ACTION: Notice of extension of comment period.

SUMMARY: On April 11, 2024, the Office of Science and Technology Policy (OSTP) published in the Federal Register a document entitled “Notice of Availability and Request for Comments; Federal Flood Standard Support Website and Tool Beta Version.” This Notice of Availability and Request for Comments invited comments to OSTP on the beta version of the Federal Flood Standard Support website (available at http://floodstandard.climate.gov) and the Federal Flood Standard Support Tool (available at http://floodstandard.climate.gov/tool) to assist Federal agencies and applicants or recipients of Federal financial assistance in the implementation of the Federal Flood Risk Management Standard (FFRMS). In response to requests by prospective commenters that they would benefit from additional time to adequately consider and respond to the Request for Comments, OSTP has determined that an extension of the comment period until June 18, 2024 is appropriate.

DATES: The end of the comment period for the document entitled “Notice of Availability and Request for Comments; Federal Flood Standard Support website and Tool Beta Version,” published on April 11, 2024 (89 FR 25674), is extended from May 28, 2024 to June 18, 2024.

ADDRESSES: Interested individuals and organizations should submit comments electronically via to https://www.regulations.gov/. Due to time constraints, mailed paper submissions will not be accepted, and electronic submissions received after the deadline may not be incorporated or taken into consideration.

Instructions: Federal eRulemaking Portal: Go to https://www.regulations.gov/ to submit your comments electronically. Information on how to use Regulations.gov, including instructions for accessing agency documents, submitting comments, and viewing the docket, is available on the site under “FAQ” (https://www.regulations.gov/faq).

Privacy Note: OSTP's policy is to make all appropriate comments received from members of the public available for public viewing in their entirety on the Federal eRulemaking Portal at https://www.regulations.gov/. Therefore, commenters should be careful to include in their comments only information that they wish to make publicly available. OSTP requests that no proprietary information, copyrighted information, or personally identifiable information be submitted in response to this notice of availability and request for comments.

Information obtained from this Request for Comments (89 FR 25674) may be used by the Government on a non-attribution basis for planning and strategy development. OSTP will not respond to individual submissions. A response to this Request for Comments (89 FR 25674) will not be viewed as a binding commitment to develop or pursue the project or ideas discussed. This Request for Comments (89 FR 25674) is not accepting applications for financial assistance or financial incentives.

Responses containing references, studies, research, and other empirical data that are not widely published should include copies of or electronic links to the referenced materials. Responses from minors, or responses containing profanity, vulgarity, threats, or other inappropriate language or content will not be considered.

Comments submitted in response to this notice are subject to the Freedom of Information Act (FOIA). Responses to this Request for Comments (89 FR 25674) may be posted without change online. Please note that the United States Government will not pay for response preparation, or for the use of any information contained in a response.

FOR FURTHER INFORMATION CONTACT: For additional information, please direct questions to Dr. Kristin Ludwig, OSTP Assistant Director for Resilience Science and Technology, at FederalFloodStandardTool@ostp.eop.gov or (202) 881-7711.

SUPPLEMENTARY INFORMATION: The Federal Government is developing multiple resources to support Federal agencies and applicants or recipients of Federal financial assistance in the implementation of the Federal Flood Risk Management Standard (FFRMS, established by Executive Order 13690 and reinstated by Executive Order 14030). These resources include the Federal Flood Standard Support website and the Federal Flood Standard Support Tool. On April 11, 2024, OSTP published in the Federal Register a document (89 FR 25674) inviting comments on the beta version of the Federal Flood Standard Support website (available at http://floodstandard.climate.gov) and the Federal Flood Standard Support Tool (available at http://floodstandard.climate.gov/tool). The Request for Comments was issued to seek input on these resources, in particular (a) feedback on the functionality of the Federal Flood Standard Support Tool in providing a user-friendly visual representation and actionable information on FFRMS approaches for federally funded projects; (b) insights on potential training and/or technical assistance needs associated with use of the Federal Flood Standard Support Tool; and (c) suggestions for clarifying the communication of the flood mapping data development methodology. The document stated that the comment period would close on May 28, 2024. OSTP has received requests to extend the comment period. An extension of the comment period will provide additional opportunity for the public to consider the Request for Comments and prepare comments to address the topics listed therein. Therefore, OSTP is extending the end of the comment period for the Request for Comments from May 28, 2024 to June 18, 2024.

Dated: May 28, 2024.
Stacy Murphy,
Deputy Chief Operations Officer/Security Officer.

[FR Doc. 2024-11940 Filed 5-30-24; 8:45 am]

BILLING CODE 3270-F1-P